DEPARTMENT OF COMMERCE

National Oceanic and Atmospheric Administration

[I.D. 102102B]

Endangered Species; File Nos. 1266, 1380, 1388

AGENCY: National Marine Fisheries Service (NMFS), National Oceanic and Atmospheric Administration (NOAA), Commerce.

ACTION: Issuance of modification, Issuance of permits.

SUMMARY: Notice is hereby given that the following applicant has been issued a permit modification to take sea turtles for purposes of scientific research/enhancement:

REMSA, Inc., 12829 Jefferson Ave., Suite 108, Newport News, VA 23608 (John Glass, Principal Investigator).

Notice is hereby given that the following applicants have been issued a permit to take sea turtles for purposes of scientific research/enhancement:

Coastwise Consulting, 173 Virginia Ave., Athens, GA 30601 (Christopher Slay, Principal Investigator) (File No. 1380); and

Dr. David Nelson, U.S. Army Research and Development Center, Waterways Experiment Station, 4104 Freetown Rd., Vicksburg, MS 39183 (File No. 1388).

ADDRESSES: The modification, permits, and related documents are available for review upon written request or by appointment in the following office(s):

All documents: Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371; and

Southeast Region, NMFS, 9721 Executive Center Drive North, St. Petersburg, FL 33702-2432; phone (727)570-5301; fax (727)570-5320.

FOR FURTHER INFORMATION CONTACT: Carrie Hubard or Ruth Johnson, 301/713-2289.

SUPPLEMENTARY INFORMATION: On March 27, 2002, notice was published in the Federal Register (67 FR 14698) that a modification of Permit No. 1266, issued May 8, 2001 (66 FR 27940), had been requested by REMSA, Inc. The requested modification has been granted under the authority of the Endangered Species Act of 1973, as amended (ESA; 16 U.S.C. 1531 et seq.) and the regulations governing the taking, importing, and exporting of endangered and threatened species (50 CFR parts 222-226).

Permit 1266 authorizes capturing via trawl, handling, flipper tagging and releasing sea turtles while removing them from the path of hopper dredges. Originally the Permit authorized the take of 30 loggerhead (Caretta caretta), 7 green (Chelonia mydas), 5 Kemp's ridley (Lepidochelys kempii), 4 hawksbill (Eretmochelys imbricata), and 4 leatherback (Dermochelys coriacea) sea turtles. This modification increases the annual take to 350 loggerhead, 150 green, 150 Kemp's ridley, 10 hawksbill and 10 leatherback sea turtles. The applicant will also begin passive integrated transponder (PIT) tagging the sea turtles in addition to the previously authorized activities. Research is conducted in the Atlantic Ocean and the Gulf of Mexico.

On April 24, 2002, notice was published in the Federal Register (67 FR 20094) that a request for a scientific research permit to take sea turtles had been submitted by Coastwise Consulting. The requested permit has been issued under the authority of the Endangered Species Act of 1973, as amended (ESA; 16 U.S.C. 1531 et seq.) and the regulations governing the taking, importing, and exporting of endangered and threatened species (50 CFR parts 222-226).

Permit No. 1380 authorizes the capture of live sea turtles using shrimp trawlers in association with hopper dredge activities along the southeastern U.S. coast and the Gulf of Mexico. Trawling may be conducted prior to dredging to assess the abundance of sea turtles in an area and/or during dredging operations to relocate turtles away from the channel being dredged. Captured turtles will be identified, measured, photographed, tagged with both flipper and PIT tags, and genetically sampled before being released. The annual number of takes authorized are: 800 loggerhead, 235 Kemp's ridley, 155 green, 51 hawksbill, and 24 leatherback turtles.

On July 23, 2002, notice was published in the Federal Register (67 FR 48135) that a request for a scientific research permit to take sea turtles had been submitted by Dr. Nelson. The requested permit has been issued under the authority of the Endangered Species Act of 1973, as amended (ESA; 16 U.S.C. 1531 et seq.) and the regulations governing the taking, importing, and exporting of endangered and threatened species (50 CFR parts 222-226).

Permit No. 1388 authorizes sea turtle research in the northwestern Atlantic Ocean and the Gulf of Mexico. The first project involves relocation trawling in association with hopper dredge activity. A total of 200 loggerhead, 100 green, 30 Kemp's ridley, 2 hawksbill, and 2 leatherback sea turtles are authorized to be captured, handled, measured, flipper and PIT tagged, and released. The second project uses a subset of the turtles caught via relocation trawling to investigate large-scale movements and diving behavior. Twenty loggerhead, 5 Kemp's ridley, and 5 green turtles will be satellite tagged in addition to the above activities before being released. The third project is an abundance and habitat survey of green sea turtles along the shoreline of Cape Canaveral. A total of 75 green sea turtles may be captured, handled, flipper and PIT tagged, and fitted with a radio/sonic transmitter or a time-depth recorder/radio transmitter, before being released.

Issuance of these permits and modification, as required by the ESA, was based on a finding that such modification/permits: (1) were applied for in good faith, (2) will not operate to the disadvantage of the endangered species which are the subject of these permits, and (3) are consistent with the purposes and policies set forth in Section 2 of the ESA.

Dated: October 25, 2002.
Eugene T. Nitta,
Acting Chief, Permits, Conservation and Education Division, Office of Protected Resources, National Marine Fisheries Service.

[FR Doc. 02-27614 Filed 10-29-02; 8:45 am]

BILLING CODE 3510-22-S